DEPARTMENT OF COMMERCE

National Oceanic and Atmospheric Administration

RIN 0648-XC439

Marine Mammals; File No. 17005

AGENCY: National Marine Fisheries Service (NMFS), National Oceanic and Atmospheric Administration (NOAA), Commerce.

ACTION: Notice; issuance of permit.

SUMMARY: Notice is hereby given that a permit has been issued to Peter Rogers, Ph.D., Georgia Institute of Technology, Woodruff School of Mechanical Engineering, Atlanta, GA 30332 to conduct research on cetacean species not listed under the Endangered Species Act (ESA).

ADDRESSES: The permit and related documents are available for review upon written request or by appointment in the following offices: See SUPPLEMENTARY INFORMATION.

FOR FURTHER INFORMATION CONTACT: Amy Hapeman or Amy Sloan, (301) 427-8401.

SUPPLEMENTARY INFORMATION: On January 15, 2013, notice was published in the Federal Register (78 FR 2956) that a request for a permit to conduct research on non-listed cetacean species had been submitted by the above-named applicant. The requested permit has been issued under the authority of the Marine Mammal Protection Act of 1972, as amended (16 U.S.C. 1361 et seq.), and the regulations governing the taking and importing of marine mammals (50 CFR part 216).

In cooperation with local marine mammal stranding networks, Dr. Rogers is authorized to conduct scientific research on non-listed cetacean species in Atlantic and Pacific coastal areas of the contiguous United States. Researchers may use a non-invasive ultrasound-based system to determine the low frequency elastic properties of cetacean head tissues. The work also would allow researchers to: (1) Determine any short term changes in soft tissue elasticity if an animal dies during the stranding response, and (2) assess differences between intact and harvested tissues from deceased stranded animals. The permit is valid through May 10, 2018.

In compliance with the National Environmental Policy Act of 1969 (42 U.S.C. 4321 et seq.), a final determination has been made that the activity proposed is categorically excluded from the requirement to prepare an environmental assessment or environmental impact statement.

Documents may be reviewed in the following locations:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426;

Southwest Region, NMFS, 501 West Ocean Blvd., Suite 4200, Long Beach, CA 90802-4213; phone (562) 980-4001; fax (562) 980-4018;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Dated: May 14, 2013.
P. Michael Payne,
Chief, Permits and Conservation Division, Office of Protected Resources, National Marine Fisheries Service.

[FR Doc. 2013-11773 Filed 5-16-13; 8:45 am]

BILLING CODE 3510-22-P